DEPARTMENT OF LABOR

Employment and Training Administration

Labor Certification Process for Temporary Agricultural Employment of Nonimmigrant Workers in the United States (H-2A Workers); On-line Application Processing System; Formal Briefings

AGENCY: Employment and Training Administration, Labor.

ACTION: Notice.

SUMMARY: As the result of the General Accounting Office (GAO) recommendation to the Secretary of Labor on ways to improve the H-2A program, the Department of Labor (DOL) has designed an H-2A case management system to improve data tracking and reporting capabilities. The system will also provide a user-friendly platform for the Regional Office staff and the regulated community to enter application data. The Division of Foreign Labor Certification, Employment and Training Administration (ETA), Department of Labor, announces two formal briefings to demonstrate to agricultural employers and other interested parties the new On-Line Application Processing System. The briefings will allow ETA to demonstrate to the regulated community, i.e., employers, attorneys, agents and associations, the benefits of the on-line application completion module.

DATES: The briefing dates are:

Thursday, January 15, 2004, 9:30 a.m. to 4 p.m., Boxborough, MA

Thursday, January 22, 2004, 9:30 a.m. to 4 p.m., Nashville, TN.

Notices of intention to appear at the briefings must be postmarked no later than December 29, 2003.

ADDRESSES: The briefing locations are:

Holiday Inn Boxborough, 242 Adams Place, Boxborough, MA 01719

Double Tree Hotel, 315 Fourth Avenue, N., Nashville, TN 37219

Send notices of intention to appear to: Charlene Giles, U.S. Department of Labor, 200 Constitution Avenue, NW., Room C-4318, Washington, DC 20210. Notices also may be faxed to Charlene Giles at 202-693-2769 (this is not a toll-free number), or submitted by e-mail at dflc.onp@dol.gov.

FOR FURTHER INFORMATION CONTACT: Charlene Giles; telephone 202-693-2950. (This is not a toll-free number.)

SUPPLEMENTARY INFORMATION: The formal public briefings will be chaired by a senior official of the Employment and Training Administration. Persons appearing at the briefings will be allowed a hands on experience with the system and to pose questions to Department staff.

Signed at Washington, DC, this 8th day of December, 2003.
Emily Stover DeRocco,
Assistant Secretary, for Employment and Training.

[FR Doc. 03-30857 Filed 12-12-03; 8:45 am]

BILLING CODE 4510-30-P